TENNESSEE VALLEY AUTHORITY

Agency Information Collection Activities: Information Collection Renewal; Comment Request

AGENCY: Tennessee Valley Authority.

ACTION: 60-Day notice of submission of information collection renewal approval and request for comments.

SUMMARY: The proposed information collection renewal described below will be submitted to the Office of Management and Budget (OMB) for review, as required by the Paperwork Reduction Act of 1995. The Tennessee Valley Authority is soliciting public comments on this proposed collection renewal.

ADDRESSES: Requests for information, including copies of the information collection proposed and supporting documentation, should be directed to the Public Information Collection Clearance Officer: Jennifer A. Wilds, Specialist, Records Compliance, Tennessee Valley Authority, 400 W Summit Hill Dr., CLK-320, Knoxville, TN 37902-1401; telephone (865) 632-6580 or by email pra@tva.gov.

DATES: Comments should be sent to the Public Information Collection Clearance Officer no later than May 16, 2022.

SUPPLEMENTARY INFORMATION: Type of Request: Renewal with minor modification.

Title of Information Collection: Section 26a Permit Application.

OMB Control Number: 3316-0060.

Current Expiration Date: June 30, 2022.

Frequency of Use: On occasion.

Type of Affected Public: Individuals or households, state or local governments, farms, businesses, or other for-profit, Federal agencies or employees, non-profit institutions, small businesses or organizations.

Small Businesses or Organizations Affected: Yes.

Federal Budget Functional Category Code: 455.

Estimated Number of Annual Responses: 2,600.

Estimated Total Annual Burden Hours: 5,200.

Estimated Average Burden Hours per Response: 2.0.

Need For and Use of Information: TVA Land Management activities and Section 26a of the Tennessee Valley Authority Act of 1933, as amended, require TVA to collect information relevant to projects that will impact TVA land and land rights and review and approve plans for the construction, operation, and maintenance of any dam, appurtenant works, or other obstruction affecting navigation, flood control, or public lands or reservations across, along, or in the Tennessee River or any of its tributaries. The information is collected via paper forms and/or electronic submissions (e.g., Joint Application Form (TVA Form 17423), Section 26a Permit and Land Use Application: Applicant Disclosure Form (TVA Form 17423A), Tennessee Valley Authority Floating Cabin Registration Form (TVA Form 21158), Tennessee Valley Authority Floating Cabin Electrical Inspection Form (TVA Form 21382), and Tennessee Valley Authority Floating Cabin Wastewater Discharge Certification Form (TVA Form 21383) and/or electronic submissions. The information is used to assess the impact of the proposed project on TVA land or land rights and statutory TVA programs to determine if the project can be approved. Rules for implementation of TVA's Section 26a responsibilities are published in 18 CFR part 1304.

Rebecca L. Coffey,
Agency Records Officer.

[FR Doc. 2022-05647 Filed 3-16-22; 8:45 am]

BILLING CODE 8120-08-P